DEPARTMENT OF HOMELAND SECURITY

Federal Emergency Management Agency

44 CFR Part 65

[Docket ID FEMA-2010-0003; Internal Agency Docket No. FEMA-B-1079]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
California:
Riverside | Unincorporated areas of Riverside County (08-09-0430P) | August 7, 2009; August 14, 2009; The Press-Enterprise | The Honorable Jeff Stone, Chairman, Riverside County Board of Supervisors, P.O. Box 1486, Riverside, CA 92502 | December 14, 2009 | 060246
Riverside | City of Temecula (08-09-0430P) | August 7, 2009; August 14, 2009; The Press-Enterprise | The Honorable Maryann Edwards, Mayor, City of Temecula, P.O. Box 9033, Temecula, CA 92589 | December 14, 2009 | 060742
Santa Barbara | Unincorporated areas of Santa Barbara County (09-09-0651P) | August 12, 2009; August 19, 2009; Santa Barbara News-Press | The Honorable Joseph Centeno, Chairman, Santa Barbara County Board of Supervisors, 105 East Anapamu Street, Santa Barbara, CA 93101 | December 17, 2009 | 060331
Santa Barbara | City of Solvang (09-09-0651P) | August 12, 2009; August 19, 2009; Santa Barbara News-Press | The Honorable David Smyser, Mayor, City of Solvang, P.O. Box 107, Solvang, CA 93464 | December 17, 2009 | 060756
Colorado:
Arapahoe | City of Aurora (09-08-0733P) | July 23, 2009; July 30, 2009; Aurora Sentinel | The Honorable Ed Tauer, Mayor, City of Aurora, 15151 East Alameda Parkway, Aurora, CO 80012 | July 17, 2009 | 080002
Boulder | Unincorporated areas of Boulder County (09-08-0486P) | August 7, 2009; August 14, 2009; The Daily Camera | The Honorable Ben Pearlman, Chairman, Boulder County Board of Commissioners, Boulder County Courthouse, P.O. Box 471, Boulder, CO 80306 | December 14, 2009 | 080023
Florida: Leon | City of Tallahassee (09-04-1668P) | August 11, 2009; August 18, 2009; Tallahassee Democrat | The Honorable John Marks, Mayor, City of Tallahassee, 300 South Adams Street, Tallahassee, FL 32301 | December 16, 2009 | 120144
Hawaii: Hawaii | Unincorporated areas of Hawaii County (08-09-1858P) | August 12, 2009; August 19, 2009; Hawaii Tribune-Herald | The Honorable William P. Kenoi, Mayor, Hawaii County, 25 Aupuni Street, Hilo, HI 96720 | December 17, 2009 | 155166
Kansas: Johnson | City of Mission (09-07-0751P) | August 18, 2009; August 25, 2009; The Legal Record | The Honorable Laura McConwell, Mayor, City of Mission, 6090 Woodson Road, Mission, KS 66202 | August 4, 2009 | 200170
Mississippi:
DeSoto | Unincorporated areas of DeSoto County (09-04-2542P) | August 11, 2009; August 18, 2009; DeSoto Times-Tribune | The Honorable Tommy Lewis, President, DeSoto County Board of Supervisors, 365 Losher Street, Suite 310, Hernando, MS 38632 | December 16, 2009 | 280050
DeSoto | City of Olive Branch (09-04-2542P) | August 11, 2009; August 18, 2009; DeSoto Times-Tribune | The Honorable Samuel P. Rikard, Mayor, City of Olive Branch, 9200 Pigeon Roost Road, Olive Branch, MS 38654 | December 16, 2009 | 280286
Missouri:
Phelps | Unincorporated areas of Phelps County (09-07-0033P) | August 11, 2009; August 18, 2009; Rolla Daily News | The Honorable Randy Verkamp, Presiding Commissioner, Phelps County Commission, 200 North Main Street, Rolla, MO 65401 | December 16, 2009 | 290824
Phelps | City of Rolla (09-07-0033P) | August 11, 2009; August 18, 2009; Rolla Daily News | The Honorable William Jenks III, Mayor, City of Rolla, P.O. Box 979, Rolla, MO 65401 | December 16, 2009 | 290285
Montana: Mineral | Unincorporated areas of Mineral County (09-08-0372P) | August 12, 2009; August 19, 2009; Mineral Independent | The Honorable Clark Conrow, Chairman, Mineral County Board of Commissioners, 300 River Street, Superior, MT 59872 | November 30, 2009 | 300159
Nevada:
Washoe | City of Reno (09-09-0999P) | August 11, 2009; August 18, 2009; Reno Gazette-Journal | The Honorable Robert Cashell, Mayor, City of Reno, P.O. Box 1900, Reno, NV 89505 | December 16, 2009 | 320020
Washoe | Unincorporated areas of Washoe County (09-09-0999P) | August 11, 2009; August 18, 2009; Reno Gazette-Journal | The Honorable Robert Larkin, Chair, Washoe County Board of Commissioners, P.O. Box 11130, Reno, NV 89520 | December 16, 2009 | 320019
New Jersey: Monmouth | Township of Marlboro (09-02-0785P) | August 13, 2009; August 20, 2009; Asbury Park Press | The Honorable Jonathan Hornik, Mayor, Township of Marlboro, 1979 Township Drive, Marlboro, NJ 07746 | December 18, 2009 | 340310
New Mexico: Bernalillo | City of Albuquerque (08-06-2955P) | August 12, 2009; August 19, 2009; The Albuquerque Journal | The Honorable Martin J. Chavez, Mayor, City of Albuquerque, P.O. Box 1293, Albuquerque, NM 87103 | December 17, 2009 | 350002
Oregon:
Clackamas | Unincorporated areas of Clackamas County (09-10-0019P) | August 11, 2009; August 18, 2009; The Oregonian | The Honorable Lynn Peterson, Chair, Clackamas County Board of Commissioners, 2051 Kaen Road, Oregon City, OR 97045 | December 16, 2009 | 415588
Clackamas | City of Wilsonville (09-10-0019P) | August 11, 2009; August 18, 2009; The Oregonian | The Honorable Tim Knapp, Mayor, City of Wilsonville, 11615 Southwest Jamaica, Wilsonville, OR 97070 | December 16, 2009 | 410025
Pennsylvania:
Delaware | Borough of Eddystone (08-03-1531P) | August 13, 2009; August 20, 2009; Delaware County Daily Times | The Honorable Ralph Orr, Mayor, Borough of Eddystone, 1300 East 12th Street, Eddystone, PA 19022 | December 18, 2009 | 420413
Delaware | Township of Ridley (08-03-1531P) | August 13, 2009; August 20, 2009; Delaware County Daily Times | The Honorable Robert J. Willert, President, Township of Ridley Board of Commissioners, 100 East MacDade Boulevard, Folsom, PA 19033 | December 18, 2009 | 420429
Delaware | Borough of Ridley Park (08-03-1531P) | August 13, 2009; August 20, 2009; Delaware County Daily Times | The Honorable Hank Eberle, Jr., Mayor, Borough of Ridley Park, 105 East Ward Street, Ridley Park, PA 19078 | December 18, 2009 | 420430
Texas:
Bexar | City of San Antonio (08-06-2074P) | August 12, 2009; August 19, 2009; Daily Commercial Recorder | The Honorable Julian Castro, Mayor, City of San Antonio, P.O. Box 839966, San Antonio, TX 78283 | December 17, 2009 | 480045
Bexar | City of San Antonio (08-06-2153P) | August 12, 2009; August 19, 2009; Daily Commercial Recorder | The Honorable Julian Castro, Mayor, City of San Antonio, P.O. Box 839966, San Antonio, TX 78283 | December 17, 2009 | 480045
Collin | City of McKinney (09-06-1503P) | August 14, 2009; August 21, 2009; McKinney Courier-Gazette | The Honorable Brian Loughmiller, Mayor, City of McKinney, P.O. Box 517, McKinney, TX 75070 | August 31, 2009 | 480135
Gillespie | Unincorporated areas of Gillespie County (09-06-0312P) | July 29, 2009; August 5, 2009; Fredericksburg Standard Radio Post | The Honorable Mark Stroeher, Gillespie County Judge, 101 West Main Street, Fredericksburg, TX 78624 | December 3, 2009 | 480696
Utah: Davis | City of Centerville (09-08-0637P) | August 13, 2009; August 20, 2009; Salt Lake Tribune | The Honorable Ronald G. Russell, Mayor, City of Centerville, 73 West Ricks Creek Way, Centerville, UT 84014 | July 31, 2009 | 490040

(Catalog of Federal Domestic Assistance No. 97.022, “Flood Insurance.”)

Dated: March 18, 2010.
Edward L. Connor,
Acting Federal Insurance and Mitigation Administrator, Mitigation, Department of Homeland Security, Federal Emergency Management Agency.

[FR Doc. 2010-8083 Filed 4-8-10; 8:45 am]

BILLING CODE 9110-12-P